ENVIRONMENTAL PROTECTION AGENCY

[FRL-8014-1]

Tribal Solid Waste Management Assistance Project: Request for Proposals

AGENCY: Environmental Protection Agency (EPA).

ACTION: Notice of withdrawal of Notice of Availability.

SUMMARY: This action withdraws the Tribal Solid Waste Interagency Workgroup announcement of the FY 06 Solicitation request for proposals of the Tribal Solid Waste Management Assistance Project (previously called the Open Dump Cleanup Project), published in the Federal Register Notice on Wednesday, November 23, 2005 (70 FR 70828). EPA is withdrawing the November 23, 2005 Notice of Availability because it has determined that it is necessary to make certain changes and clarifications to the funding solicitation contained therein. EPA will issue a revised solicitation in the near future. The revised solicitation will be published on the Internet at http://www.epa.gov/tribalmsw (click on the “Grants/Funding” link) and will also be available through http://www.grants.gov.

FOR FURTHER INFORMATION CONTACT: For general information contact, Christopher Dege, at (703) 308-2392 or Tonya Hawkins at (703) 308-8278.

Dated: December 9, 2005.
Matt Hale,
Director, Office of Solid Waste.

• Accordingly, the notice of funding availability published in the Federal Register on November 23, 2005 (70FR 70828) is withdrawn.

[FR Doc. 05-24425 Filed 12-30-05; 8:45 am]

BILLING CODE 6560-50-P